NUCLEAR REGULATORY COMMISSION

[Docket Nos. 52-025 and 52-026; NRC-2026-0628]

Southern Nuclear Operating Company; Vogtle Electric Generating Plant, Units 3 and 4; Exemption

AGENCY: Nuclear Regulatory Commission.

ACTION: Notice; issuance.

SUMMARY: The U.S. Nuclear Regulatory Commission (NRC) is granting an exemption, on its own initiative, to Southern Nuclear Operating Company (SNC, the licensee) from a specific requirement in a voluntary regulation regarding risk-informed categorization and treatment of structures, systems and components for nuclear power reactors for Vogtle Electric Generating Plant (Vogtle), Units 3 and 4.

DATES: The exemption was issued on February 10, 2026.

ADDRESSES: Please refer to Docket ID NRC-2026-0628 when contacting the NRC about the availability of information regarding this document. You may obtain publicly available information related to this document using any of the following methods:

• Federal Rulemaking Website: Go to https://www.regulations.gov and search for Docket ID NRC-2026-0628. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: John Lamb, Office of Nuclear Reactor Regulation, U.S. Nuclear Regulatory Commission, Washington, DC 20555-0001; telephone: 301-415-3100; email: John.Lamb@nrc.gov.

SUPPLEMENTARY INFORMATION: The text of the exemption is attached.

Dated: February 10, 2026.
For the Nuclear Regulatory Commission.
John Lamb,
Senior Project Manager, Plant Licensing Branch 2-1, Division of Operating Reactor Licensing, Office of Nuclear Reactor Regulation.

Attachment—Exemption

NUCLEAR REGULATORY COMMISSION

Docket Nos. 52-025 and 52-026

Southern Nuclear Operating Company Vogtle Electric Generating Plant, Units 3 and 4 Exemptions

I. Background

Southern Nuclear Operating Company (SNC, the licensee) is the holder of Combined License Nos. NPF-91 and NPF-92 for the Vogtle Electric Generating Plant (Vogtle), Units 3 and 4, respectively. The licenses provide, among other things, that the licensee is subject to all rules, regulations, and orders of the U.S. Nuclear Regulatory Commission (NRC, the Commission) now or hereafter in effect. These facilities consist of two pressurized-water reactors located at the licensee's site in Burke County, Georgia, respectively.

II. Action

The NRC staff is initiating these exemptions to extend the applicability of 10 Code of Federal Regulations (10 CFR) 50.69, “Risk-informed categorization and treatment of structures, systems and components for nuclear power reactors,” paragraph (b)(1) for SNC to request the use of risk-informed treatment of structures, systems, and components (SSCs) for nuclear power reactors for Vogtle, Units 3 and 4. These exemptions would allow SNC to request a license amendment to voluntarily adopt 10 CFR 50.69 for Vogtle, Units 3 and 4. For the reasons explained below, the NRC staff has determined that the requirements of 10 CFR 50.12, “Specific exemptions” are met. Therefore, the exemptions from 10 CFR 50.69(b)(1) with respect to applicability may be granted.

III. Discussion

The NRC staff is initiating these exemptions based on a pre-submittal meeting held on September 17, 2025, between the NRC staff and SNC, in which SNC stated that it plans to submit a request for a license amendment to adopt 10 CFR 50.69 in the first quarter of 2026. The meeting notice was published on August 19, 2025, via the NRC's public website (Agencywide Documents Access and Management System Accession No. ML25231A077). The SNC slides are available at ADAMS Accession No. ML25247A004. By letter dated September 25, 2025 (ML25265A043), the NRC staff issued the meeting summary.

Paragraph (b)(1) of 10 CFR 50.69, states, in part, that “[a] holder of a license to operate a light water reactor (LWR) nuclear power plant under this part [10 CFR part 50]; [. . .] ; an applicant for a construction permit or operating license under this part [10 CFR part 50]; or an applicant for . . . a combined license . . . under part 52 of this chapter; may voluntarily comply with the requirements in this section as an alternative to compliance with . . .” certain requirements for [Risk-Informed Safety Class] RISC-3 and RISC-4 SSCs. SNC is no longer an “applicant” for a combined license under part 52 for Vogtle, Units 3 and 4. Rather, SNC is now a “holder” of a combined license to operate a LWR nuclear power plant under 10 CFR part 52 for Vogtle, Units 3 and 4. The applicability of 10 CFR 50.69(b)(1) to request voluntary adoption of 10 CFR 50.69 does not include a “holder” of a part 52 combined license. These exemptions would allow SNC to request a license amendment to voluntarily adopt 10 CFR 50.69 for Vogtle, Units 3 and 4.

Appendix D to part 52, “Design Certification Rule for the AP1000 Design,” Section V.A.1 states: “. . . the regulations that apply to the AP1000 design are in [Title 10 of the Code of Federal Regulations] 10 CFR parts 20, 50, 73, and 100, codified as of January 23, 2006, that are applicable and technically relevant, as described in the [Final Safety Evaluation Report] FSER (NUREG-1793) and Supplement No. 1.” The requirement in 10 CFR 52.7, “Specific exemptions,” states, in pertinent part: “The Commission's consideration of requests for exemptions from requirements of the regulations of other parts in this chapter, which are applicable by virtue of this part, shall be governed by the exemption requirements of those parts.” Accordingly, pursuant to 10 CFR 50.12, the NRC may, upon application by any interested person or upon its own initiative, grant exemptions from the requirements of 10 CFR part 50, “Domestic Licensing of Production and Utilization Facilities,” including 10 CFR 50.69, when: (1) the exemptions are authorized by law, will not present an undue risk to the public health and safety, and are consistent with the common defense and security; and (2) special circumstances are present. Under 10 CFR 50.12(a)(2), special circumstances include, among other things, whenever application of the regulation in the particular circumstances would not serve, or is not necessary to achieve, the underlying purpose of the rule. Accordingly, 10 CFR 50.12 allows for the NRC to initiate exemptions.

Here, the NRC staff-initiated limited scope exemptions from the applicability requirement contained in 10 CFR 50.69(b)(1) is applicable to Vogtle, Units 3 and 4, because SNC cannot request a license amendment to voluntarily adopt 10 CFR 50.69 due to SNC being a “holder” of part 52 combined licenses as opposed to being an “applicant” for Vogtle, Units 3 and 4. According to 10 CFR 50.69(b)(1), “holders” of a part 52 combined license are not included among the licensees authorized to adopt 10 CFR 50.69. Accordingly, these NRC staff-initiated exemptions from the applicability requirement in 10 CFR 50.69(b)(1) for SNC, a 10 CFR part 52 COL holder for Vogtle, Units 3 and 4, will be governed by 10 CFR 50.12.

A. Exemptions Are Authorized by Law

SNC cannot seek voluntary adoption of 10 CFR 50.69 for Vogtle, Units 3 and 4, absent exemptions, because it is a “holder” of a combined license to operate an LWR nuclear power plant under 10 CFR part 52, which is not included in the applicability of 10 CFR 50.69(b)(1). The proposed exemptions to 10 CFR 50.69(b)(1) would allow SNC to request a license amendment to voluntarily adopt 10 CFR 50.69 for Vogtle, Units 3 and 4. The requirements in 10 CFR 50.12 allow the NRC to initiate exemptions from part 50 requirements and is also referenced in 10 CFR 52.7. Accordingly, the proposed exemptions to 10 CFR 50.69(b)(1) are allowed by 10 CFR 50.12, when the exemptions are authorized by law. Licensee and applicant compliance with 10 CFR 50.69 is voluntary, and no provisions in law expressly prohibit or otherwise restrict the application of these NRC staff-initiated exemptions. Accordingly, the proposed exemptions will not result in a violation of the Atomic Energy Act of 1954, as amended (AEA), or the Commission's regulations. Therefore, the NRC staff finds that these exemptions are authorized by law.

B. The Exemptions Present No Undue Risk to Public Health and Safety

The NRC staff-initiated exemptions to 10 CFR 50.69(b)(1) would allow SNC, as a holder of a part 52 combined license, to request a license amendment to voluntarily adopt 10 CFR 50.69. As previously stated, 10 CFR 50.12 allows the NRC to grant exemptions from the requirements of 10 CFR part 50, including 10 CFR 50.69, when the exemptions will not present an undue risk to the public health and safety.

Notably, the NRC staff issued the 10 CFR 52.103(g) finding (103(g) finding) for Vogtle, Unit 3, on August 3, 2022 (package ML20290A280), and on July 31, 2023, Vogtle, Unit 3, entered commercial operation. The NRC staff issued the 103(g) finding for Vogtle, Unit 4, on July 28, 2023 (package ML22348A165 and ML22348A094), and on April 29, 2024, Vogtle, Unit 4, entered commercial operation. The NRC staff determined that SNC met all the acceptance criteria in Appendix C to the combined licenses for Vogtle, Units 3 and 4, and issued the findings that the acceptance criteria were met under 10 CFR 52.103(g). That allows SNC to operate Vogtle, Units 3 and 4, in accordance with the terms and conditions of combined license numbers NPF-91 and NPF-92, respectively.

These exemptions to 10 CFR 50.69(b)(1) would simply allow SNC to request a license amendment to voluntarily adopt 10 CFR 50.69. Any future request for a license amendment for Vogtle, Units 3 and 4, to implement the provisions in 10 CFR 50.69 would be separately reviewed independently by the NRC staff.

Therefore, these exemptions do not create any new accident precursors, and neither the probability nor the consequences of postulated accidents are increased. In conclusion, the NRC staff finds that these exemptions to 10 CFR 50.69(b)(1) do not result in any undue risk to the public health and safety because they would simply allow SNC to request a license amendment to voluntarily adopt 10 CFR 50.69 at Vogtle, Units 3 and 4.

C. The Exemptions Are Consistent With the Common Defense and Security

The exemptions from 10 CFR 50.69(b)(1) would allow SNC to request a license amendment to voluntarily adopt a risk-informed categorization and treatment of SSCs under 10 CFR 50.69 for Vogtle, Units 3 and 4. Neither the regulation nor the proposed exemptions have any relation to security issues. Therefore, the NRC staff finds that the common defense and security is not impacted by the exemptions.

D. Special Circumstances

Special circumstances, in accordance with 10 CFR 50.12(a)(2)(ii), are present whenever application of the regulation in the particular circumstances would not serve the underlying purpose of the rule or is not necessary to achieve the underlying purpose of the rule. The purpose of 10 CFR 50.69(b)(1) is to allow the identified categories of licensees and applicants to request voluntary adoption of the provisions in 10 CFR 50.69, which allows adjustment of the scope of SSCs subject to certain special treatment requirements based on a risk-informed method of categorizing SSCs according to their safety significance.

As discussed above, SNC is a “holder” of a combined license under 10 CFR part 52, as opposed to an “applicant”, and, therefore, cannot request the NRC staff's review and approval to voluntarily implement the provisions in 10 CFR 50.69 for Vogtle, Units 3 and 4. The NRC was silent in the preamble for the 10 CFR 50.69 rulemaking as it relates to the specific applicability of 10 CFR 50.69 to COL holders (69 FR 68008, November 22, 2004); subsequently, in 2015, the Commission received a petition for rulemaking (PRM-50-110) that asked for extension of the applicability to use 10 CFR 50.69 to COL holders, which, in, “Staff Requirements—SECY-18-0106—Consideration in The Rulemaking Process of Issue Raised in Petition for Rulemaking on Applicability of Risk-Informed Categorization and Treatment of Structures, Systems, and Components for Nuclear Power Reactors”, dated September 10, 2020 (ML20254A358; package ML20254A357), the Commission approved to consider the issue raised in PRM-50-110 as part of a rulemaking that was ongoing.¹ Currently, 10 CFR 50.69 is applicable to “[a] holder of a license to operate a [LWR] nuclear power plant under this part [10 CFR part 50]; [. . .] ; an applicant for a construction permit or operating license under this part [10 CFR part 50]; or an applicant for [. . . ] a combined license [. . .] under part 52 of this chapter . . . .”

¹ The NRC staff notes that “Staff Requirements—SECY-22-0052—Proposed Rule: Alignment Of Licensing Processes And Lessons Learned From New Reactor Licensing,” dated November 20, 2024 (ML24326A003), stated that: “The Commission has approved publication of a revised proposed rule in the Federal Register that would include the following items that were addressed in the draft proposed rule: 1. Expand the applicability of 10 CFR 50.69, `Risk-informed categorization and treatment of structures, systems and components for nuclear power reactors,' to allow design certification applicants, construction permit holders, and combined license holders to risk-inform the categorization of structures, systems, and components.” (emphasis added).

As relevant for Vogtle, Units 3 and 4, as discussed above, the 103(g) findings have been made, which allows SNC to operate Vogtle, Units 3 and 4, in accordance with the terms and conditions of combined license numbers NPF-91 and NPF-92, respectively. The fact that the NRC staff issued the 103(g) findings is relevant because it brings Vogtle, Units 3 and 4, to a similar standing as part 50 licensees, which are able to request voluntary adoption of 10 CFR 50.69.

Accordingly, special circumstances exist under 10 CFR 50.12(a)(2)(ii) in that application of the regulation in these particular circumstances would not serve the underlying purpose of the rule or is not necessary to achieve the underlying purpose of the rule. Notably, the Commission's findings pursuant to 10 CFR 52.103(g) confirm that the acceptance criteria of the combined license are met, which allows SNC to operate Vogtle, Units 3 and 4, in accordance with the terms and conditions of combined license numbers NPF-91 and NPF-92, respectively. Based on the above, the NRC staff finds that the special circumstances described in 10 CFR 50.12(a)(2)(ii) are present for these exemptions.

E. Environmental Considerations

With respect to the impact of the exemptions on the quality of the human environment, the NRC has determined that the issuance of the exemptions discussed herein meets the eligibility criteria for categorical exclusion from the requirement to prepare an environmental assessment or environmental impact statement, set forth in 10 CFR 51.22(c)(25).

Under 10 CFR 51.22(c)(25), the granting of exemptions from the requirements of any regulation of 10 CFR chapter I (which includes 10 CFR 50.69(b)(1)), is an action that is a categorical exclusion, provided that certain specified criteria are met. The basis for NRC's determination is provided in the following evaluation of the requirements in 10 CFR 51.22(c)(25)(i)-(vi).

Requirements in 10 CFR 51.22(c)(25)(i)

To qualify for a categorical exclusion under 10 CFR 51.22(c)(25)(i), the exemptions must involve no significant hazards consideration. The criteria for determining whether an action involves a significant hazards consideration are found in 10 CFR 50.92. The exemptions to 10 CFR 50.69(b)(1) would simply allow SNC to request a license amendment to voluntarily adopt a risk-informed categorization and treatment of SSCs for Vogtle, Units 3 and 4. There are no significant hazard considerations because granting the exemptions would not: (1) involve a significant increase in the probability or consequences of an accident previously evaluated; or (2) create the possibility of a new or different kind of accident from any accident previously evaluated; or (3) involve a significant reduction in a margin of safety.

Requirements in 10 CFR 51.22(c)(25)(ii)

There is no significant change in the types or significant increase in the amounts of any effluents that may be released offsite. The exemptions to 10 CFR 50.69(b)(1) would simply allow SNC to request a license amendment to voluntarily adopt a risk-informed categorization and treatment of SSCs for Vogtle, Units 3 and 4, and do not involve any changes in the types or increase in the amounts of any effluents that may be released offsite.

Requirements in 10 CFR 51.22(c)(25)(iii)

There is no significant increase in individual or cumulative public or occupational radiation exposure. Since the exemptions to 10 CFR 50.69(b)(1) would simply allow SNC to request a license amendment to voluntarily adopt a risk-informed categorization and treatment of SSCs for Vogtle, Units 3 and 4, they do not contribute to any significant increase in individual or cumulative public or occupational radiation exposures.

Requirements in 10 CFR 51.22(c)(25)(iv)

There is no significant construction impact. Since the exemptions to 10 CFR 50.69(b)(1) would simply allow SNC to request a license amendment to voluntarily adopt a risk-informed categorization and treatment of SSCs for Vogtle, Units 3 and 4, they do not involve any construction impact.

Requirements in 10 CFR 51.22(c)(25)(v)

There is no significant increase in the potential for or consequences from radiological accidents. The exemptions to 10 CFR 50.69(b)(1) would simply allow SNC to request a license amendment to voluntarily adopt a risk-informed categorization and treatment of SSCs for Vogtle, Units 3 and 4, and do not impact the potential for or consequences from radiological accidents.

Requirements in 10 CFR 51.22(c)(25)(vi)(I)

The exemptions to 10 CFR 50.69(b)(1) involve other requirements of an administrative, managerial, or organizational nature because they would simply allow SNC to request a license amendment to voluntarily adopt a risk-informed categorization and treatment of SSCs for Vogtle, Units 3 and 4, pursuant to 10 CFR 50.69.

Based on the previously noted requirements, the exemptions to 10 CFR 50.69(b)(1) meet the eligibility criteria for the categorical exclusion set forth in 10 CFR 51.22(c)(25). Therefore, in accordance with 10 CFR 51.22(b), no environmental impact statement or environmental assessment need be prepared in connection with the NRC staff's issuance of these exemptions.

IV. Conclusions

Accordingly, the Commission has determined that, pursuant to 10 CFR 50.12, the exemptions are authorized by law, will not present an undue risk to public health and safety, and are consistent with the common defense and security. Also, special circumstances, pursuant to 10 CFR 50.12(a)(2)(ii), are present. Therefore, the Commission hereby grants SNC exemptions to extend the applicability of 10 CFR 50.69(b)(1) to allow SNC, a holder of a COL under part 52, to request a license amendment to voluntarily adopt a risk-informed categorization and treatment of SSCs for Vogtle, Units 3 and 4, pursuant to 10 CFR 50.69.

The exemptions are effective upon issuance.

Dated: February 10, 2026

For the Nuclear Regulatory Commission.

Aida Rivera-Varona,

Acting Director, Division of Operating Reactor Licensing, Office of Nuclear Reactor Regulation.

[FR Doc. 2026-02918 Filed 2-12-26; 8:45 am]

BILLING CODE 7590-01-P